DEPARTMENT OF LABOR

Employment and Training Administration

[TA-W-59,031]

Fraser NH LLC, Berlin, NH and Fraser NH LLC, Gorham, NH; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on March 29, 2006, applicable to workers of Fraser Paper LLC, Berlin, New Hampshire. The notice will be published soon in the Federal Register.

Workers at the Berlin, New Hampshire location produce paper pulp that is used by the workers at the Gorham, New Hampshire location to produce fine paper and towel paper.

New information provided by the company shows that workers are sent back and forth between the Berlin, New Hampshire facility and the Gorham, New Hampshire facility; therefore, workers are not separately identifiable by product line or by location. The two facilities essentially worked as one unit via a two mile pipeline connecting the facilities. Worker separations have occurred at both the Berlin, New Hampshire and Gorham, New Hampshire facilities of Fraser NH LLC.

Accordingly, the Department is amending the certification to also cover workers of the Gorham, New Hampshire location of Fraser NH LLC and to correct the name of the subject firm from Fraser Paper, L.L.C. to read Fraser NH LLC.

The intent of the Department's certification is to include all workers of Fraser NH LLC who were adversely affected by increased company imports.

The amended notice applicable to TA-W-59,031 is hereby issued as follows:

All workers of Fraser NH LLC, Berlin, New Hampshire and Fraser NH LLC, Gorham, New Hampshire, who became totally or partially separated from employment on or after March 14, 2005, through March 29, 2008, are eligible to apply for adjustment assistance under Section 223 of the Trade Act of 1974 and are also eligible to apply for alternative trade adjustment assistance under Section 246 of the Trade Act of 1974.

Signed at Washington, DC, this 14th day of April 2006.
Elliott S. Kushner,
Certifying Officer, Division of Trade Adjustment Assistance.

[FR Doc. E6-6408 Filed 4-27-06; 8:45 am]

BILLING CODE 4510-30-P